DEPARTMENT OF THE INTERIOR

Office of the Secretary

43 CFR Part 12

RIN 1090-AA67

Administrative and Audit Requirements and Cost Principles for Assistance Programs

AGENCY: Office of the Secretary, Interior.

ACTION: Final rule.

SUMMARY: This action finalizes an interim rule the Department of the Interior (Department) published in response to the issuance of Executive Order 13043 of April 16, 1997, “Increasing Seat Belt Use in the United States” (Order). Under Section 1(c), after the date of the Order, each Federal agency was required to seek to encourage contractors, subcontractors, and grantees to adopt and enforce on-the-job seat belt policies and programs for their employees when operating company-owned, rented, or personally owned vehicles. Section 2 of the Order directed all agencies of the executive branch to promulgate rules and take other appropriate measures within their existing programs to further the policies of the Order.

The Department published an interim final rule on December 27, 1999, because there had been no government-wide implementation of this policy. This final rule applies to grants and cooperative agreements awarded by the Department, and provides a regulatory basis for the inclusion of a provision in grants and cooperative agreements awarded by the Department.

In the event that the Office of Management and Budget (OMB) chooses to implement this requirement through the issuance of a government-wide directive, the Department will revise this regulation, as appropriate.

DATES: Effective July 17, 2000.

FOR FURTHER INFORMATION CONTACT: Debra E. Sonderman, (Director,Office of Acquisition and Property Management), (202) 208-6431.

SUPPLEMENTARY INFORMATION: On April 16, 1997, Executive Order 13043, “Increasing Seat Belt Use in the United States,” was signed by President Clinton. Section 1(c) directed each Federal agency, in contracts, subcontracts, and grants entered into after the date of the Order, to encourage contractors, subcontractors, and grantees to adopt and enforce on-the-job seat belt policies and programs for their employees when operating company-owned, rented, or personally-owned vehicles. Section 2 directed all agencies of the executive branch to promulgate rules and take other appropriate measures within their existing programs to further the policies of the Order.

The Department is revising Subpart A of 43 CFR part 12, to implement the requirements of the Executive Order for grants/cooperative agreements awarded by bureaus/offices. The requirements also apply to subawards made under a grant or cooperative agreement.

OMB generally publishes government-wide administrative requirements for grants and cooperative agreements and agencies implement these requirements in regulations. Agencies have not been officially notified by OMB that they intend to publish government-wide requirements to implement the Order.

Because of the need to implement the Order's requirements, the Department is publishing this regulation to cover the Department's awards of grants and cooperative agreements. Through this regulation the Department will include a provision in grants and cooperative agreements awarded by the Department encouraging recipients to adopt and enforce on-the-job seat belt use policies and programs consistent with the Order. For those bureaus/offices within the Department which prefer to simply reference this rule as 43 CFR part 12, inclusion of the specific provision will not be required.

Compliance With Laws, Executive Orders, and Department Policy

This document was not subject to review by the Office of Management and Budget under Executive Order 12866.

This rule will not have an effect of $100 million or more on the economy. It will not adversely affect in a material way the economy, productivity, competition, jobs, the environment, public health or safety, or State, local, or tribal governments or communities.

This rule will not create a serious inconsistency or otherwise interfere with an action taken or planned by another agency.

This rule does not alter the budgetary effects or entitlements, grants, user fees, or loan programs or the rights or obligations of their recipients.

This rule does not raise novel legal or policy issues.

The Department certifies that this rule will not have a significant economic effect on a substantial number of small entities under the Regulatory Flexibility Act (5 U.S.C. 601 et seq.). The Department has determined that this rule will not have a significant economic impact on small entities since any efforts undertaken by grantees to implement the requirements of the Order are not expected to have a significant economic impact and no additional costs will be imposed as a result of this rule. Most grantees probably already have programs in place to conduct education and awareness programs about the importance of wearing seat belts and the consequences of not wearing them.

This rule is not a major rule under 5 U.S.C. 804(2), the Small Business Regulatory Enforcement Fairness Act. This rule:

a. Does not have an annual effect on the economy of $100 million or more. Most grantees probably already have programs in place to conduct education and awareness programs about the importance of wearing seat belts and the consequences of not wearing them.

b. Will not cause a major increase in costs or prices for consumers, individual industries, Federal, State, or local government agencies, or geographic regions. Grantees are being encouraged to adopt and enforce on-the-job seat belt use policies and programs and no additional costs are expected to be imposed.

c. Does not have significant adverse effects on competition, employment, investment, productivity, innovation, or the ability of U.S.-based enterprises to compete with foreign-based enterprises. This determination is based on the fact that the provision simply encourages Federal grantees to adopt and enforce on-the-job seat belt use policies and programs for their employees when operating company-owned, rented, or personally owned vehicles. Federal grantees are also encouraged to conduct education, awareness, and other appropriate programs for their employees about the importance of wearing seat belts and the consequences of not wearing them.

This rule does not impose an unfunded mandate on State, local, or tribal governments or the private sector of more than $100 million per year. This rule does not have a significant or unique effect on State, local, or tribal governments or the private sector. Grantees are being encouraged to adopt and enforce on-the-job seat belt use policies and programs and no additional costs are expected to be imposed. Most grantees probably already have programs in place to conduct education and awareness programs about the importance of wearing seat belts and the consequences of not wearing them. No additional costs are expected to be imposed. A statement containing the information required by the Unfunded Mandates Reform Act (2 U.S.C. 1531 et seq.) was not required.

In accordance with Executive Order 12630, this rule does not have significant takings implications. A takings implication assessment is not required. No takings of personal property will occur as a result of this rule.

In accordance with Executive Order 13132, this rule does not have sufficient federalism implications to warrant the preparation of a Federalism Assessment. Awards to governmental entities are governed by 43 CFR part 12, Subpart C. Under section 12.76, a State is required to ensure that every purchase order or other contract includes any clauses required by Federal statutes and executive orders and their implementing regulations. Therefore, this requirement is not considered to be interference by the Federal Government with State rights as described in Executive Order 13132. A Federalism Assessment is not required.

In accordance with Executive Order 12988, the Office of the Solicitor determined that this rule does not unduly burden the judicial system and meets the requirements of sections 3(a) and 3(b)(2) of the Order.

This regulation does not require an information collection from 10 or more parties and a submission under the Paperwork Reduction Act was not required. An OMB form 83-I was not required.

This rule does not constitute a major Federal action significantly affecting the quality of the human environment. A detailed statement under the National Environmental Policy Act of 1969 was not required.

Analysis of Comments

One public comment was received in response to the publication of the interim final rule. A respondent from the State of Ohio commented that the rule was an arbitary, unnecessary and unwarranted intrusion by the federal government to affect behavior in an area tangential, at best, to its constitutional responsibilities. The commenter recommended that the rule be withdrawn so that federal employees could focus on their real and important work. The Department is publishing the regulation because of the requirement in Section 2 of the Order which directed all agencies of the executive branch to promulgate rules to further the policies of the Order.

An internal commenter objected to the requirement to include the manual add-in provision in their grants and cooperative agreements and asked that Section 12.2 (e)(3) and its provision be deleted entirely since it was redundant and unnecessary. This comment was the only one received of this nature and to accommodate their concerns, the final rule will allow either the inclusion of the provision or a reference to the applicability of 43 CFR part 12.

List of Subjects in 43 CFR Part 12

Administrative practice and procedure, Contract programs, Cooperative agreements, Grant programs, Grants administration, Reporting and recordkeeping requirements.

Accordingly, the interim rule amending 43 CFR part 12 which was published at 64 FR 72287 on December 27, 1999, is adopted as a final rule without change.

Dated: May 31 2000.
Lisa Guide,
Deputy Assistant Secretary for Policy and International Affairs.

[FR Doc. 00-15175 Filed 6-15-00; 8:45 am]

BILLING CODE 4310-RF-U